ENVIRONMENTAL PROTECTION AGENCY

40 CFR Parts 52 and 70

[EPA-R07-OAR-2009-0913; FRL-9186-4]

Approval and Promulgation of Implementation Plans; State of Nebraska

AGENCY: Environmental Protection Agency (EPA).

ACTION: Proposed rule.

SUMMARY: EPA is proposing to approve revisions to the State Implementation Plan (SIP) and Operating Permits Program to revise the state definition of volatile organic compounds; clarify language and incorporate rules related to construction permits to incorporate application fees and include a mechanism to use construction permits to accomplish other permitting needs; and clarify language related to open fires and explicitly include an exemption for fires used for religious activities. Approval of these revisions will ensure consistency between the state and Federally-approved rules.

DATES: Comments on this proposed action must be received in writing by September 10, 2010.

ADDRESSES: Submit your comments, identified by Docket ID No. EPA-R07-OAR-2009-0913, by mail to Chrissy Wolfersberger, Environmental Protection Agency, Air Planning and Development Branch, 901 North 5th Street, Kansas City, Kansas 66101. Comments may also be submitted electronically or through hand delivery/courier by following the detailed instructions in the ADDRESSES section of the direct final rule located in the rules section of this Federal Register.

FOR FURTHER INFORMATION CONTACT: Chrissy Wolfersberger at 913-551-7864 or by e-mail at Wolfersberger.chris@epa.gov.

SUPPLEMENTARY INFORMATION: In the final rules section of the Federal Register, EPA is approving revisions to the state's SIP and Operating Permits Program as a direct final rule without prior proposal because the Agency views this as a noncontroversial revision amendment and anticipates no relevant adverse comments to this action. A detailed rationale for the approval is set forth in the direct final rule. If no relevant adverse comments are received in response to this action, no further activity is contemplated in relation to this action. If EPA receives relevant adverse comments, the direct final rule will be withdrawn and all public comments received will be addressed in a subsequent final rule based on this proposed action. EPA will not institute a second comment period on this action. Any parties interested in commenting on this action should do so at this time. Please note that if EPA receives adverse comment on part of this rule and if that part can be severed from the remainder of the rule, EPA may adopt as final those parts of the rule that are not the subject of an adverse comment. For additional information, see the direct final rule which is located in the rules section of this Federal Register.

Dated: July 21, 2010.
William Rice,
Acting Regional Administrator, Region 7.

[FR Doc. 2010-19568 Filed 8-10-10; 8:45 am]

BILLING CODE 6560-50-P